DEPARTMENT OF ENERGY

Federal Energy Regulatory Commission

Combined Notice of Filings #1

Take notice that the Commission received the following electric corporate filings:

Docket Numbers: EC17-87-000.

Applicants: The AES Corporation, Alberta Investment Management Corporation, FTP Power LLC.

Description: Application for Authorization for Disposition of Jurisdictional Facilities and Request for Expedited Action of The AES Corporation, et al.

Filed Date: 3/3/17.

Accession Number: 20170303-5189.

Comments Due: 5 p.m. ET 3/24/17.

Take notice that the Commission received the following electric rate filings:

Docket Numbers: ER13-1874-003.

Applicants: American Electric Power Service Corporation.

Description: Notice of Non-Material Change in Status submitted by American Electric Power Service Corporation on behalf of the AEP Generation Resources, Inc.

Filed Date: 3/3/17.

Accession Number: 20170303-5197.

Comments Due: 5 p.m. ET 3/24/17.

Docket Numbers: ER13-1935-002.

Applicants: South Carolina Electric & Gas Company.

Description: Compliance filing: Attachment K Compliance filing 3-6-2017 to be effective 1/1/2015.

Filed Date: 3/6/17.

Accession Number: 20170306-5095.

Comments Due: 5 p.m. ET 3/27/17.

Docket Numbers: ER14-1363-004; ER16-2462-004.

Applicants: Kendall Green Energy LLC, Oregon Clean Energy, LLC.

Description: Notice of Non-Material Change in Status of Kendall Green Energy LLC, et al.

Filed Date: 3/3/17.

Accession Number: 20170303-5205.

Comments Due: 5 p.m. ET 3/24/17.

Docket Numbers: ER17-219-001.

Applicants: PacifiCorp.

Description: Compliance filing: OATT Ancillary Services Compliance Filing to be effective 2/13/2017.

Filed Date: 3/3/17.

Accession Number: 20170303-5133.

Comments Due: 5 p.m. ET 3/24/17.

Docket Numbers: ER17-795-001.

Applicants: ISO New England Inc.

Description: Tariff Amendment: Extension of Statutory Action Dates; Docket No. ER17-795- to be effective 12/31/9998.

Filed Date: 3/6/17.

Accession Number: 20170306-5084.

Comments Due: 5 p.m. ET 3/27/17.

Docket Numbers: ER17-1083-001.

Applicants: RC Cape May Holdings, LLC.

Description: Tariff Amendment: Amended RMR Rate Schedule, Electric Rate Schedule FERC No.3 & Request for Waiver to be effective 5/1/2017.

Filed Date: 3/3/17.

Accession Number: 20170303-5150.

Comments Due: 5 p.m. ET 3/24/17.

Docket Numbers: ER17-1102-000.

Applicants: Mid-Atlantic Interstate Transmission, LLC, Pennsylvania Electric Company, Metropolitan Edison Company, PJM Interconnection, L.L.C.

Description: § 205(d) Rate Filing: MAIT submits revisions to certain Service Agreements re: MAIT Integration to be effective 2/1/2017.

Filed Date: 3/3/17.

Accession Number: 20170303-5149.

Comments Due: 5 p.m. ET 3/24/17.

Docket Numbers: ER17-1103-000.

Applicants: ISO New England Inc., New England Power Pool Participants Committee.

Description: § 205(d) Rate Filing: Revisions to ISO-NE Tariff Related to Mkt. Participant's FCM Capacity Chrg. Req. to be effective 6/1/2017.

Filed Date: 3/6/17.

Accession Number: 20170306-5058.

Comments Due: 5 p.m. ET 3/27/17.

Docket Numbers: ER17-1104-000.

Applicants: NorthWestern Corporation.

Description: § 205(d) Rate Filing: SA 809—Substation Cost Sharing Agreement with Park Electric Cooperative, Inc. to be effective 5/6/2017.

Filed Date: 3/6/17.

Accession Number: 20170306-5112.

Comments Due: 5 p.m. ET 3/27/17.

Docket Numbers: ER17-1105-000.

Applicants: PacifiCorp.

Description: § 205(d) Rate Filing: Exelon NITSA (OR D.A.) to be effective 2/28/2017.

Filed Date: 3/6/17.

Accession Number: 20170306-5129.

Comments Due: 5 p.m. ET 3/27/17.

Take notice that the Commission received the following electric reliability filings:

Docket Numbers: RR17-3-000.

Applicants: North American Electric Reliability Corporation.

Description: Petition of the North American Electric Reliability Corporation for Approval of Amendments to the Texas Reliability Entity Bylaws and Regional Reliability Standards Development Process.

Filed Date: 3/6/17.

Accession Number: 20170306-5079.

Comments Due: 5 p.m. ET 3/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2017.
Nathaniel J. Davis, Sr.,
Deputy Secretary.

[FR Doc. 2017-04727 Filed 3-9-17; 8:45 am]

BILLING CODE 6717-01-P